OFFICE OF MANAGEMENT AND BUDGET

Public Availability of Fiscal Year 2006 Agency Inventories Under the Federal Activities Inventory Reform Act

AGENCY: Office of Management and Budget, Executive Office of the President.

ACTION: Notice of Public Availability of Agency Inventory of Activities That Are Not Inherently Governmental and of Activities That Are Inherently Governmental.

SUMMARY: The Federal Activities Inventory Reform (FAIR) Act, Public Law 105-270, requires agencies to develop inventories each year of activities performed by their employees that are not inherently governmental—i.e., inventories of commercial activities. The FAIR Act further requires OMB to review the inventories in consultation with the agencies and publish a notice of public availability in the Federal Register after the consultation process is completed. In accordance with the FAIR Act, OMB is publishing this notice to announce the availability of inventories from the agencies listed below. These inventories identify both commercial activities and activities that are inherently governmental.

This is the first release of the FAIR Act inventories for FY 2006. Interested parties who disagree with the agency's initial judgment may challenge the inclusion or the omission of an activity on the list of activities that are not inherently governmental within 30 working days and, if not satisfied with this review, may appeal to a higher level within the agency.

The Office of Federal Procurement Policy has made available a FAIR Act User's Guide through its Internet site: http://www.whitehouse.gov/omb/procurement/fair-index.html. This User's Guide will help interested parties review FY 2006 FAIR Act inventories.

Rob Portman,
Director, Office of Management and Budget.

Attachment

First Fair Act Release FY 2006
American Battle Monuments Commission | Mr. Guy Giancarlo, (703) 696-6898, http://www.abmc.gov/other/fair.htm
Broadcasting Board of Governors | Ms. Cathy Brown, (202) 203-4608, http://www.bbg.gov
Consumer Product Safety Commission | Mr. Edward Quist, (301) 504-7655, http://www.cpsc.gov
Department of Commerce | Mrs. Maile Arthur, (202) 482-1574, http://www.doc.gov
Department of Defense | Ms. Monica Kelliher-Hamby, (703) 602-3666, http://web.lmi.org/fairnet
Department of Defense (IG) | Mr. Stephen D. Wilson, (703) 604-8306, http://www.dodig.mil
Department of Education | Mr. Gary Weaver, (202) 245-6138, http://www.ed.gov/about/offices/list/ocfo/2006fair.html
Department of Energy | Mr. Dennis O'Brien, (202) 586-1690, http://www.mbe.doe.gov/me2-1/a76/csa76.htm
Department of Health and Human Services | Ms. Tracey Mock, (202) 205-4430, http://www.hhs.gov/ogam/oam/fair
Department of Housing and Urban Development | Mr. Frank Murphy, (202) 708-0614 ext 3466, http://www.hud.gov/offices/cfo
Department of the Interior | Ms. Donna Kalvels, (202) 219-0727, http://www.doi.gov/perfmgt/competitivesourcing
Department of the Interior (IG) | Mr. Roy Kime, (202) 208-6232, http://www.oig.doi.gov
Department of Justice | Mr. Larry Silvis, (202) 616-3754, http://www.usdoj.gov/jmd/pe/preface.htm
Department of Labor | Mr. Larry Clark, (202) 693-4020, http://www.dol.gov/oasam/programs/boc/welcome2boc.htm
Department of Labor (IG) | Mr. David LeDoux, (202) 693-5138, http://www.oig.dol.gov/2006fair_act.htm
Department of Transportation | Mr. David Litman, (202) 366-4263, http://www.dot.gov
Department of Transportation (IG) | Ms. Jacquelyn Weber, (202) 366-1495, http://www.oig.dot.gov
Department of Treasury | Mr. Jim Sullivan, (202) 622-9395, http://www.treas.gov/fair
Environmental Protection Agency | Mrs. Barbara Stearrett (202) 566-1970, http://www.epa.gov
Environmental Protection Agency (IG) | Mr. Michael J. Binder (202) 566-2617, http://www.epa.gov/oig
Farm Credit Administration | Mr. Philip Shebest, (703) 883-4246, http://www.fca.gov
Federal Energy Regulatory Commission | Ms. Kimberly Fernandez, (202) 502-8302, http://www.ferc.gov
Federal Mediation and Conciliation Service | Mr. Dan Ellerman, (202) 606-5460, http://www.fmcs.gov/internet
Federal Trade Commission | Ms. Darlene Cossette, (202) 326-3255, http://www.ftc.gov/fairact
Inter-American Foundation | Ms. Linda Kolko, (703) 306-4308, http://www.iaf.gov
National Aeronautics and Space Administration | Ms. Diane Frazier, (202) 358-0419, competitivesourcing.nasa.gov
National Archives and Records Administration | Ms. Susan Ashtianie, (301) 837-1490, http://www.archives.gov/ about/plans-reports/fair-act/index.html
National Endowment for the Arts | Mr. Laurence Baden, (202) 682-5534, http://www.arts.gov
National Labor Relations Board | Ms. Demetria Gregory, (202) 273-0054, http://www.nlrb.gov/about_us/public_notices/federal_activities_inventory_reform_act.aspx
National Labor Relations Board (IG) | Mr. Emil George, (202) 273-1966, http://www.nlrb.gov/about_us/public_notices/ federal_activities_inventory_reform_act.aspx
National Science Foundation | Mr. Joseph Burt, (703) 292-8108, http://www.nsf.gov/publications
Occupational Safety and Health Review Commission | Mr. Richard Loeb, (202) 606-5376, http://www.oshrc.gov
Office of Federal Housing Enterprise Oversight | Ms. Jill Weide, (202) 414-3813, http://www.ofheo.gov
Peace Corps | Mr. Alfred Miller Jr., (202) 692-1126, http://www.peacecorps.gov/index.cfm?shell=pchq.policies.docs
Railroad Retirement Board | Mr. Henry Valiulis, (312) 751-4990, http://www.rrb.gov
Securities and Exchange Commission | Mr. Jeffrey Risinger, (202) 551-7446, http://www.sec.gov
Selective Service System | Mr. Calvin Montgomery, (703) 605-4038, http://www.sss.gov
Small Business Administration | Mr. Richard Brechbiel, (202) 205-6784, http://www.sba.gov/A76
Social Security Administration | Mr. Dennis Wilhite, (410) 965-7401, http://www.socialsecurity.gov/fair/FAIRact.htm
U.S. Agency for International Development | Ms. Deborah Lewis, (202) 712-0936, http://www.usaid.gov/business/regulations/fair/
U.S. Agency for International Development (IG) | Mr. Robert Ross, (202) 712-1331, http://www.usaid.gov/oig/public/public1.htm

[FR Doc. E7-8329 Filed 5-1-07; 8:45 am]

BILLING CODE 3110-01-P